GOVERNMENT ACCOUNTABILITY OFFICE

Publication of Volume III of GAO's “Principles of Federal Appropriations Law”

AGENCY: Government Accountability Office.

ACTION: Notice.

SUMMARY: The third edition of Volume III of GAO's “Principles of Federal Appropriations Law” was recently published by the Government Printing Office (GPO). Government departments, agencies, and other federal organizations that normally require more than one copy were given an opportunity to request them through their agencies' account representatives at a pre-publication rate. This notice is intended for other parties who might be interested in purchasing the book.

SUPPLEMENTARY INFORMATION: The Government Accountability Office (GAO) published Volume III of “Principles of Federal Appropriations Law,” third edition—also known as “The Red Book.” This publication is part of a multi-volume set intended to present a basic reference covering those areas of law in which the Comptroller General renders decisions. Our approach is to lay a foundation with text discussion, using specific legal authorities to illustrate the principles discussed, their application, and exceptions. These authorities include GAO decisions and opinions, judicial decisions, statutory provisions, and other relevant sources.

GAO provided copies of this volume to the heads and general counsels of Federal agencies, and agencies were already given an opportunity to place advance (rider) orders for additional copies of this volume with their account representatives at the Government Printing Office (GPO).

This notice is intended to tell the general public that they can now order this publication through GPO's new online bookstore, at http://bookstore.gpo.gov/actions/GetPublication.do?stocknumber=020-000-00289-1. The price is $75.

Through periodic training courses on federal appropriations law, GAO believes that this publication might be useful in particular to law offices, to accounting firms, to the financial, budget, or accounting officers of government contractors, to university and state law libraries, to corporate chief financial officers, and to people who follow federal financial management, contracts, trust funds, facilities management, and real property.

We published the third edition in loose-leaf format and include a CD-Rom. Volume III includes four chapters covering acquisition of goods and services, real property, claims by and against the government, and miscellaneous topics such as boards and commissions, government use of corporate entities, nonappropriated fund instrumentalities, and trust funds. Volume III, third edition replaces the old Volume IV, second edition. This completes the third edition of The Red Book. However, we plan to update the third edition annually. The updates will only be published electronically at http://www.gao.gov/legal/redbook.htm. GAO did not revise Volume III, second edition. That volume covers topics that are no longer the responsibility of GAO, including claims settlement, debt collection, and the payment of judgments. Chapter 14 of Volume III, third edition, briefly summarizes the contents of Volume III, second edition.

Authority: 31 U.S.C. 712, 717, 719, 3511, 3526-29.

Susan Poling,
Managing Associate General Counsel, Government Accountability Office.

[FR Doc. E9-3316 Filed 2-13-09; 8:45 am]

BILLING CODE 1610-02-P